DEPARTMENT OF AGRICULTURE

Rural Business-Cooperative Service

Inviting Applications for Rural Business Opportunity Grants

AGENCY: Rural Business-Cooperative Service, USDA.

ACTION: Notice of Funding Availability (NOFA).

SUMMARY: Pursuant to 7 CFR part 4284, subpart G, the Rural Business-Cooperative Service (RBS), an Agency within the Rural Development mission area, announces the availability of grants of up to $50,000 per application for single-state projects from the Rural Business Opportunity Grant (RBOG) program for Fiscal Year (FY) 2011, to be competitively awarded. For multi-state projects, grant funds of up to $150,000 will be available on a competitive basis. These limits do not apply to specific funding for certain specifically designated rural areas as discussed below. For FY 2011, approximately $2.5 million is available and will be distributed as follows: $990,000 is reserved for projects benefitting Federally Recognized Native American Tribes (FRNAT) in rural areas and $1,488,000 is unreserved. Applicants should note that in FY 2010 the RBOG program was highly competitive. Approximately $2.5 million was available in reserved and unreserved funds. The Agency received 430 applications and was able to fund 27 applications, a rate of 6 percent.

DATES: The deadline for the receipt of both paper and electronic applications is August 1, 2011. Any applications received after the deadline will not be considered for FY 2011 funding.

ADDRESSES: Entities wishing to apply for assistance should contact a Rural Development State Office for further information and copies of the application package. Applications may be submitted in electronic or paper format. Electronic applications must be submitted through http://www.grants.gov by following the directions posted for the RBOG program. Paper applications must be submitted to the USDA Rural Development State Office in the State where your project is located or, in the case of multi-state projects, in the State where the majority of the work will be conducted. A list of the USDA Rural Development State Office addresses and telephone numbers are as follows:

Alabama

USDA Rural Development State Office, Sterling Centre, Suite 601, 4121 Carmichael Road, Montgomery, AL 36106-3683, (334) 279-3400/TDD (334) 279-3495.

Alaska

USDA Rural Development State Office, 800 West Evergreen, Suite 201, Palmer, AK 99645-6539, (907) 761-7705/TDD (907) 761-8905.

Arizona

USDA Rural Development State Office, 230 N. 1st Ave., Suite 206, Phoenix, AZ 85003, (602) 280-8701/TDD (602) 280-8705.

Arkansas

USDA Rural Development State Office, 700 West Capitol Avenue, Room 3416, Little Rock, AR 72201-3225, (501) 301-3200/TDD (501) 301-3279.

California

USDA Rural Development State Office, 430 G Street, #4169, Davis, CA 95616-4169, (530) 792-5800/TDD (530) 792-5848.

Colorado

USDA Rural Development State Office, Denver Federal Center, Building 56, Room 2300, P.O. Box 25426, Denver, CO 80225-0426, (720) 544-2903.

Connecticut (See Massachusetts)

Delaware/Maryland

USDA Rural Development State Office, 1221 College Park Drive, Suite 200, Dover, DE 19904, (302) 857-3580/TDD (302) 857-3585.

Florida/Virgin Islands

USDA Rural Development State Office, 4440 NW 25th Place, P.O. Box 147010, Gainesville, FL 32614-7010, (352) 338-3400/TDD (352) 338-3499.

Georgia

USDA Rural Development State Office, Stephens Federal Building, 355 E. Hancock Avenue, Athens, GA 30601-2768, (706) 546-2162/TDD (706) 546-2034.

Hawaii

USDA Rural Development State Office, Federal Building, Room 311, 54 Waianuenue Avenue, Hilo, HI 96720, (808) 933-8380/TDD (808) 933-8321.

Idaho

USDA Rural Development State Office, 9173 West Barnes Drive, Suite A1, Boise, ID 83709, (208) 378-5600/TDD (208) 378-5644.

Illinois

USDA Rural Development State Office, 2118 West Park Court, Suite A, Champaign, IL 61821, (217) 403-6200/TDD (217) 403-6240.

Indiana

USDA Rural Development State Office, 5975 Lakeside Boulevard, Indianapolis, IN 46278, (317) 290-3100/TDD (317) 290-3343.

Iowa

USDA Rural Development State Office, Federal Building, Room 873, 210 Walnut Street, Des Moines, IA 50309, (515) 284-4663/TDD (515) 284-4858.

Kansas

USDA Rural Development State Office, 1303 S.W. First American Place, Suite 100, Topeka, KS 66604-4040, (785) 271-2700/TDD (785) 271-2767.

Kentucky

USDA Rural Development State Office, 771 Corporate Drive, Suite 200, Lexington, KY 40503, (859) 224-7300/TDD (859) 224-7422.

Louisiana

USDA Rural Development State Office, 3727 Government Street, Alexandria, LA 71302, (318) 473-7921/TDD (318) 473-7655.

Maine

USDA Rural Development State Office, 967 Illinois Avenue, Suite 4, P.O. Box 405, Bangor, ME 04402-0405, (207) 990-9160/TDD (207) 942-7331.

Maryland (See Delaware)

Massachusetts/Rhode Island/Connecticut

USDA Rural Development State Office, 451 West Street, Suite 2, Amherst, MA 01002-2999, (413) 253-4300/TDD (413) 253-4590.

Michigan

USDA Rural Development State Office, 3001 Coolidge Road, Suite 200, East Lansing, MI 48823, (517) 324-5190/TDD (517) 324-5169.

Minnesota

USDA Rural Development State Office, 375 Jackson Street, Suite 410, St. Paul, MN 55101-1853, (651) 602-7800/TDD (651) 602-3799.

Mississippi

USDA Rural Development State Office, Federal Building, Suite 831, 100 West Capitol Street, Jackson, MS 39269, (601) 965-4316/TDD (601) 965-5850.

Missouri

USDA Rural Development State Office, 601 Business Loop 70 West, Parkade Center, Suite 235, Columbia, MO 65203, (573) 876-0976/TDD (573) 876-9480.

Montana

USDA Rural Development State Office, 2229 Boot Hill Court, Bozeman, MT 59715-7914, (406) 585-2580/TDD (406) 585-2562.

Nebraska

USDA Rural Development State Office, Federal Building, Room 152, 100 Centennial Mall North, Lincoln, NE 68508, (402) 437-5551/TDD (402) 437-5093.

Nevada

USDA Rural Development State Office, 1390 South Curry Street, Carson City, NV 89703-5146, (775) 887-1222/TDD (775) 885-0633.

New Hampshire (See Vermont)

New Jersey

USDA Rural Development State Office, 8000 Midlantic Drive, 5th Floor North, Suite 500, Mt. Laurel, NJ 08054, (856) 787-7700/TDD (856) 787-7784.

New Mexico

USDA Rural Development State Office, 6200 Jefferson Street NE., Room 255, Albuquerque, NM 87109, (505) 761-4950/TDD (505) 761-4938.

New York

USDA Rural Development State Office, The Galleries of Syracuse, 441 South Salina Street, Suite 357, Syracuse, NY 13202-2541, (315) 477-6400/TDD (315) 477-6447.

North Carolina

USDA Rural Development State Office, 4405 Bland Road, Suite 260, Raleigh, NC 27609, (919) 873-2000/TDD (919) 873-2003.

North Dakota

USDA Rural Development State Office, Federal Building, Room 208, 220 East Rosser, P.O. Box 1737, Bismarck, ND 58502-1737, (701) 530-2037/TDD (701) 530-2113.

Ohio

USDA Rural Development State Office, Federal Building, Room 507, 200 North High Street, Columbus, OH 43215-2418, (614) 255-2400/TDD (614) 255-2554.

Oklahoma

USDA Rural Development State Office, 100 USDA, Suite 108, Stillwater, OK 74074-2654, (405) 742-1000/TDD (405) 742-1007.

Oregon

USDA Rural Development State Office, 1201 NE Lloyd Blvd., Suite 801, Portland, OR 97232, (503) 414-3300/TDD (503) 414-3387.

Pennsylvania

USDA Rural Development State Office, One Credit Union Place, Suite 330, Harrisburg, PA 17110-2996, (717) 237-2299/TDD (717) 237-2261.

Puerto Rico

USDA Rural Development State Office, IBM Building, Suite 601, 654 Munos Rivera Avenue, San Juan, PR 00918-6106, (787) 766-5095/TDD (787) 766-5332.

Rhode Island (see Massachusetts).

South Carolina

USDA Rural Development State Office, Strom Thurmond Federal Building, 1835 Assembly Street, Room 1007, Columbia, SC 29201, (803) 765-5163/TDD (803) 765-5697.

South Dakota

USDA Rural Development State Office, Federal Building, Room 210, 200 Fourth Street, SW., Huron, SD 57350, (605) 352-1100/TDD (605) 352-1147.

Tennessee

USDA Rural Development State Office, 3322 West End Avenue, Suite 300, Nashville, TN 37203-1084, (615) 783-1300.

Texas

USDA Rural Development State Office, Federal Building, Suite 102, 101 South Main, Temple, TX 76501, (254) 742-9700/TDD (254) 742-9712.

Utah

USDA Rural Development State Office, Wallace F. Bennett Federal Building, 125 South State Street, Room 4311, Salt Lake City, UT 84138, (801) 524-4320/TDD (801) 524-3309.

Vermont/New Hampshire

USDA Rural Development State Office, City Center, 3rd Floor, 89 Main Street, Montpelier, VT 05602, (802) 828-6000/TDD (802) 223-6365.

Virgin Islands (See Florida)

Virginia

USDA Rural Development State Office, 1606 Santa Rosa Road, Suite 238, Richmond, VA 23229-5014, (804) 287-1550/TDD (804) 287-1753.

Washington

USDA Rural Development State Office, 1835 Black Lake Boulevard SW., Suite B, Olympia, WA 98512-5715, (360) 704-7740/TDD (360) 704-7760.

West Virginia

USDA Rural Development State Office, 75 High Street, Room 320, Morgantown, WV 26505-7500, (304) 284-4860/TDD (304) 284-4836.

Wisconsin

USDA Rural Development State Office, 4949 Kirschling Court, Stevens Point, WI 54481, (715) 345-7600/TDD (715) 345-7614.

Wyoming

USDA Rural Development State Office, 100 East B, Federal Building, Room 1005, P.O. Box 11005, Casper, WY 82602-5006, (307) 233-6700/TDD (307) 233-6733.

U.S. Territories

Guam (See Hawaii)

Western Pacific (See Hawaii)

FOR FURTHER INFORMATION CONTACT: Office of the Deputy Administrator, Cooperative Programs, Rural Business-Cooperative Service, United States Department of Agriculture, 1400 Independence Avenue, SW., MS-3250, Room 4016-South, Washington, DC 20250-3250, (202) 720-8460.

SUPPLEMENTARY INFORMATION:

Overview

Federal Agency: Rural Business-Cooperative Service (RBS).

Funding Opportunity Type: Rural Business Opportunity Grants.

Announcement Type: Funding Announcement.

Catalog of Federal Domestic Assistance Number: 10.773.

DATES: Application Deadline: Applications must be received no later than August 1, 2011, to be eligible for FY 2011 grant funding. Applications received after this date will not be eligible for FY 2011 grant funding.

I. Funding Opportunity Description

The RBOG program is authorized under section 306(a)(11) of the Consolidated Farm and Rural Development Act (CONACT) (7 U.S.C. 1926(a)(11)). The program regulations are found at 7 CFR part 4284, subpart G and are incorporated by reference in this Notice. In addition, the General requirements for Cooperative Services Grant Programs found at 7 CFR part 4284, subpart A, also apply and are also incorporated by reference in this Notice. The USDA Rural Development State Offices administer the RBOG program on behalf of USDA Rural Development at the State level. The primary objective of the program is to improve the economic conditions of rural areas. Assistance provided to rural areas under this program may include technical assistance for business development and economic development planning. To ensure that a broad range of communities have the opportunity to benefit from the program, no grant will exceed $50,000, unless it is a multi-State project, in which case, the maximum grant amount is $150,000. As indicated in the summary, these limits do not apply to any specified funding for rural areas designated as FRNAT.

Definitions

The definitions are published at 7 CFR 4284.603.

II. Award Information

Type of Award: Grant.

Fiscal Year Funds: FY 2011.

Total Funding: $2,478,000 distributed as follows: $990,000 is reserved for projects benefitting FRNAT in rural areas and $1,488,000 is unreserved.

Approximate Number of Awards: 27.

Maximum Award: $50,000 for single-State projects; $150,000 for multi-State projects; no limit for FRNAT projects.

Anticipated Award Date: September 30, 2011.

III. Eligibility Information

A. Eligible Applicants

Grants may be made to public bodies, nonprofit corporations, Indian tribes on Federal or State reservations and other federally recognized tribal groups, and cooperatives with members that are primarily rural residents and that conduct activities for the mutual benefit of the members. For additional information on applicant eligibility, please see 7 CFR 4284.620.

B. Cost Sharing or Matching

Matching funds are not required.

C. Other Eligibility Requirements

Applications must propose to use project funds, including grant and any leveraged funds, for eligible grant purposes, as described in 7 CFR 4284.621. Ineligible grant purposes are listed in 7 CFR 4284.629.

D. Completeness Eligibility

Applications will not be considered for funding if they do not provide sufficient information to determine eligibility or are missing required elements. The required elements of a complete application can be found at 7 CFR 4284.638.

IV. Fiscal Year 2011 Application and Submission Information

A. Address To Request Application Package

For further information, entities wishing to apply for assistance should contact the USDA Rural Development State Office identified in the ADDRESSES section of this notice to obtain copies of the application package.

To submit applications electronically through the Grants.gov Web site at: http://www.grants.gov. Applications may not be submitted electronically in any way other than through Grants.gov.

• When you enter the Grants.gov Web site, you will find information about submitting an application electronically through the site as well as the hours of operation. USDA Rural Development strongly recommends that you do not wait until the application deadline date to begin the application process through Grants.gov. Applicants must have a Dun and Bradstreet Data Universal Numbering System (DUNS) number, which can be obtained at no cost via a toll-free request line at 1-866-705-5711.

• Similarly, applicants must maintain registration in the Central Contractor Registration (CCR) database, in accordance with 2 CFR Part 215. Applicants may register for the CCR at https://www.uscontractorregistration.com/, or by calling (877) 252-2700.

• You must submit all documents electronically through the Web site, including all information typically included on the application for RBOGs and all necessary assurances and certifications.

• After electronically submitting an application through the Web site, the applicant will receive an automatic acknowledgement from Grants.gov that contains a Grants.gov tracking number.

• USDA Rural Development may request that the applicant provide original signatures on forms at a later date.

Please note that applicants can locate the downloadable application package for this program by using a keyword, the program name, the Catalog of Federal Domestic Assistance Number, or the Funding Opportunity Number.

B. Content and Form of Submission

An application must contain all of the required elements as described at 7 CFR 4284.638. Copies of 7 CFR part 4284, subpart G, will be provided to any interested applicant making a request to a USDA Rural Development State Office listed in this notice, or can be obtained at the Rural Development web link: http://www.rurdev.usda.gov/rd_instructions.html.

C. Submission Date and Time

Application Deadline date: August 1, 2011.

Explanation of Deadlines: Paper applications must be in the USDA Rural Development State Office by the deadline date, 4 p.m. local time. Electronic applications submitted through Grants.gov will be accepted by the system through midnight eastern time on the deadline date.

V. Application Review Information

Each application will be reviewed to determine if it is eligible for assistance based on the requirements in 7 CFR part 4284, subpart G as well as other applicable Federal regulations. Eligible applications will be tentatively scored by the USDA Rural Development State Offices and submitted to the National Office for final review and selection. Note that each selection priority criterion outlined in 7 CFR 4284.639 must be addressed in the application. Failure to address any of the criteria will result in a zero-point score for that criterion and will impact the overall evaluation of the application.

The National Office will review the scores based on the grant selection criteria and weights contained in 7 CFR 4284.639. Applications for FRNAT designated funds will be funded in rank order and must achieve a score of at least 60 points out of a possible of 100 points for criteria paragraphs (a) through (e) in order to be funded.

Applicants are advised that the Administrator reserves the right to award discretionary points as designated in 7 CFR 4284.639(f). For this FY, the Administrator may consider awarding these discretionary points to applications that propose to engage in regional economic development activities in the key strategy areas of: (1) Creating or supporting local and regional food systems (especially supporting the creation of retail outlets of healthy foods in areas that lack sufficient outlets), (2) creating or supporting renewable energy generation, (3) using broadband or other critical infrastructure to create economic development, (4) creating or supporting access to capital in rural areas, and (5) creating or supporting innovative utilization of natural resources for economic development.

Applicants who wish to be considered for these discretionary points must provide the following additional information in their applications: (1) A description of the multi-county or multi-State region that will be the focus of the project, (2) a narrative description that identifies how the project will primarily support one of the five key strategies described above, (3) a narrative description identifying the partnerships that will be utilized or created to accomplish the regional economic development work, and (4) a narrative description of how the proposed project is expected to become a “best practice” that can be transferred to another region or key strategy area.

The Administrator will consider the applications providing this information for discretionary points by assessing how the project evidences the following: (1) Clear leadership, (2) a common economic basis shared by the counties or States within the region, (3) capacity of the key personnel and partnering organizations to complete the proposed work, (4) collaboration with and/or investment from a broad range of institutions, (5) broad citizen participation in the proposed project, (6) demographic diversity in the region, and (7) adequate funding to disadvantaged communities.

VI. Award Administration Information

A. Award Notices

Successful applicants will receive notification regarding funding from the USDA Rural Development State Office. Applicants must comply with all applicable statutes and regulations before the grant award will be approved. Unsuccessful applicants will receive notification, including mediation procedures and appeal rights, by mail.

B. Administrative and National Policy Requirements

Additional requirements that apply to grantees selected for this program can be found in 7 CFR part 4284, subpart G, parts 3015, 3016, 3019, 3052, and 2 CFR part 417. All recipients of Federal financial assistance are required to comply with the Federal Funding Accountability and Transparency Act of 2006 and must report information about subawards and executive compensation in accordance with 2 CFR part 170.

VII. Agency Contacts

For general questions about this announcement, please contact the USDA Rural Development State Office located in your State as identified in the ADDRESSES section of this notice.

Nondiscrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (braille, large print, audiotape, etc.) should contact USDA's TARGET Center at (202) 720-2600 (voice and TDD).

To file a complaint of discrimination, write to USDA, Assistant Secretary for Civil Rights, Office of the Assistant Secretary for Civil Rights, 1400 Independence Avenue, SW., Stop 9410, Washington, DC 20250-9410, or call toll-free at (866) 632-9992 (English) or (800) 877-8339 (TDD) or (866) 377-8642 (English Federal-relay) or (800) 845-6136 (Spanish Federal-relay). USDA is an equal opportunity provider, lender, and employer.

Appeal Process

All adverse determinations regarding applicant eligibility and the awarding of points as part of the selection process are appealable pursuant to 7 CFR part 11. Instructions on the appeal process will be provided at the time an applicant is notified of the adverse decision.

Dated: June 23, 2011.
Judith A. Canales,
Administrator, Rural Business-Cooperative Service.

[FR Doc. 2011-16555 Filed 6-30-11; 8:45 am]

BILLING CODE 3410-XY-P